Title 3—

The President

Presidential Determination No. 2004-48 of September 20, 2004

Intention to Grant Waiver of the Application of Section 901(j) of the Internal Revenue Code with Respect to Libya

Memorandum for the Secretary of the Treasury

By virtue of the authority vested in me by the Constitution and the laws of the United States, including section 901(j)(5) of the Internal Revenue Code (the “Code”) and section 301 of title 3, United States Code:

(a) I hereby determine that the waiver of the application of section 901(j)(1) of the Code with respect to Libya is in the national interest of the United States and will expand trade and investment opportunities for U.S. companies in Libya;

(b) I intend to grant such a waiver with respect to Libya; and

(c) I authorize and direct you to report to the Congress in accordance with section 901(j)(5)(B) of the Code my intention to grant the waiver and the reason for this determination and to arrange for publication of this determination in the Federal Register.

B

THE WHITE HOUSE,

Washington, September 20, 2004.

[FR Doc. 05-514

Filed 1-7-05; 8:45 am]

Billing code 4810-31-P